DEPARTMENT OF THE INTERIOR

National Park Service

[NPS-WASO-NAGPRA-10221; 2200-1100-665]

Notice of Inventory Completion: University of Maine, Hudson Museum, Orono, ME

AGENCY: National Park Service, Interior.

ACTION: Notice.

SUMMARY: The University of Maine, Hudson Museum has completed an inventory of human remains in consultation with the appropriate Indian tribes and has determined that there is a cultural affiliation between the human remains and present-day Indian tribes. Representatives of any Indian tribe that believes itself to be culturally affiliated with the human remains may contact the University of Maine, Hudson Museum. Repatriation of the human remains to the Indian tribes stated below may occur if no additional claimants come forward.

DATES: Representatives of any Indian tribe that believes it has a cultural affiliation with the human remains should contact the University of Maine, Hudson Museum, at the address below by July 5, 2012.

ADDRESSES: Gretchen Faulkner, Director, Hudson Museum, University of Maine, 5746 Collins Center for the Arts, Orono, ME 04469-5746, telephone 207-581-1904.

SUPPLEMENTARY INFORMATION: Notice is here given in accordance with the Native American Graves Protection and Repatriation Act (NAGPRA), 25 U.S.C. 3003, of the completion of an inventory of human remains in the possession of the University of Maine, Hudson Museum. The human remains were removed from unknown sites in the state of Maine.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Maine, Hudson Museum, professional staff in consultation with representatives of the Aroostook Band of Micmacs Indians of Maine, Houlton Band of Maliseet Indians of Maine, Passamaquoddy Tribe of Maine, and the Penobscot Tribe of Maine.

History and Description of the Remains

In the late nineteenth and early twentieth centuries, human remains representing, at minimum, two individuals were removed from unknown sites in the state of Maine. The remains were a part of a collection loan to the University of Maine, Hudson Museum, by the former Portland Society of Natural History and subsequently donated to the University of Maine, Hudson Museum by the Maine Audubon Society. The human remains are identified at the University of Maine, Hudson Museum, as numbers 12 and 13. Number 12 is a mandible from a female, age 18-40, and number 13 is a mandible from a male, age 18-40. Number 13 is consistent with archaeological remains, while number 12 is not likely from an archaeological context. No known individuals were identified. No associated funerary objects are present.

All human remains in the possession of the University of Maine, Hudson Museum, were reviewed by forensic anthropologist Marcella Sorg, Ph.D., D-ABFA on July 16, 2002, who was assisted by former Hudson Museum Director Stephen Whittington, Lisa Hunter, and Kentra Gleuck. The resulting report indicates the minimum number of individuals, age, sex, ancestry, and provenience if available. The human remains represented by #12 and #13 were determined to be of Native American ancestry and have provenience to the ancestral territories of the Aroostook Band of Micmacs Indians of Maine, Houlton Band of Maliseet Indians of Maine, Passamaquoddy Tribe of Maine, and the Penobscot Tribe of Maine.

Determinations Made by the University of Main, Hudson Museum

Officials of the University of Maine, Hudson Museum, have determined that:

• Pursuant to 25 U.S.C. 3001(9), the human remains described in this notice represent the physical remains of two individuals of Native American ancestry.

• Pursuant to 25 U.S.C. 3001(2), there is a relationship of shared group identity that can be reasonably traced between the Native American human remains to the Aroostook Band of Micmacs Indians of Maine, Houlton Band of Maliseet Indians of Maine, Passamaquoddy Tribe of Maine, and the Penobscot Tribe of Maine.

Additional Requestors and Disposition

Representatives of any Indian tribe that believes itself to be culturally affiliated with the human remains should contact Gretchen Faulkner, Director, University of Maine, Hudson Museum, 5746 Collins Center for the Arts, Orono, ME 04469-5746, telephone (207) 581-1904, before July 5, 2012. Repatriation of the human remains to the Aroostook Band of Micmacs Indians of Maine, Houlton Band of Maliseet Indians of Maine, Passamaquoddy Tribe of Maine, and the Penobscot Tribe of Maine may proceed after that date if no additional claimants come forward.

The University of Maine, Hudson Museum is responsible for notifying the Aroostook Band of Micmacs Indians of Maine, Houlton Band of Maliseet Indians of Maine, Passamaquoddy Tribe of Maine, and the Penobscot Tribe of Maine that this notice has been published.

Dated: May 30, 2012.
Sherry Hutt,
Manager, National NAGPRA Program.

[FR Doc. 2012-13458 Filed 6-1-12; 8:45 am]

BILLING CODE 4312-50-P